DEPARTMENT OF LABOR

Employment and Training Administration

[TA-W-64,106]

Wabash Magnetics, Including On-Site Leased Workers From Ameristaff, South Boston, VA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on November 5, 2008, applicable to workers of Wabash Magnetics, South Boston, Virginia. The notice was published in the Federal Register on November 25, 2008 (73 FR 66676).

At the request of a company official, the Department reviewed the certification for workers of the subject firm. The workers are engaged in the production of electromagnetic coils.

New information shows that workers leased from Ameristaff were employed on-site at the South Boston, Virginia location of Wabash Magnetics. The Department has determined that these workers were sufficiently under the control of Wabash Magnetics to be considered leased workers.

Based on these findings, the Department is amending this certification to include workers leased from Ameristaff working on-site at the South Boston, Virginia location of the subject firm.

The intent of the Department's certification is to include all workers employed at Wabash Magnetics, South Boston, Virginia who were adversely affected by increased imports of electromagnetic coils.

The amended notice applicable to TA-W-64,106 is hereby issued as follows:

All workers of Wabash Magnetics, including on-site leased workers from Ameristaff, South Boston, Virginia, who became totally or partially separated from employment on or after September 23, 2007, through November 5, 2010, are eligible to apply for adjustment assistance under Section 223 of the Trade Act of 1974, and are also eligible to apply for alternative trade adjustment assistance under Section 246 of the Trade Act of 1974.

Signed at Washington, DC this 16th day of December 2008.
Elliott S. Kushner,
Certifying Officer, Division of Trade Adjustment Assistance.

[FR Doc. E8-30918 Filed 12-29-08; 8:45 am]

BILLING CODE 4510-FN-P